DEPARTMENT OF TRANSPORTATION

Pipeline and Hazardous Materials Safety Administration

49 CFR Part 192

[Docket No. PHMSA-2025-0127]

RIN 2137-AF96

Pipeline Safety: Standards Update—ASTM A578/A578M

AGENCY: Pipeline and Hazardous Materials Safety Administration (PHMSA), Department of Transportation (DOT).

ACTION: Direct final rule (DFR); confirmation of effective date.

SUMMARY: PHMSA is confirming the effective date for the DFR that appeared in the Federal Register on July 1, 2025. The DFR amended PHMSA's regulations at 49 CFR part 192 to incorporate by reference ASTM International's updated industry standard ASTM A578/A578M, “Standard Specification for Straight-Beam Ultrasonic Examination of Rolled Steel Plates for Special Applications.”

DATES: PHMSA confirms the effective date of January 1, 2026, for the DFR that appeared in the Federal Register on July 1, 2025 (90 FR 28061).

FOR FURTHER INFORMATION CONTACT: Brianna Wilson, Transportation Specialist, by phone at 771-215-0969 or email at brianna.wilson@dot.gov.

SUPPLEMENTARY INFORMATION: On July 1, 2025 (90 FR 28061), PHMSA published a DFR amending its regulations at 49 CFR part 192 to incorporate by reference the 2017 edition (reapproved 2023) of ASTM A578/A578M, “Standard Specification for Straight-Beam Ultrasonic Examination of Rolled Steel Plates for Special Applications.”

Reference to the 2017 version will replace the existing reference within 49 CFR 192.112(c) to ASTM A578/A578M-96, “Standard Specification for Straight-Beam Ultrasonic Examination of Plain and Clad Steel Plates for Special Applications,” reapproved January 1, 2001.

PHMSA issued the DFR under the procedures set forth at 49 CFR 190.339. In accordance with those provisions, PHMSA stated in the DFR that if no adverse comments were received, the DFR would become final and effective on January 1, 2026. PHMSA did not receive any comments that warranted withdrawal of the DFR; therefore, this rule will become effective as scheduled.

Issued in Washington, DC, on September 30, 2025, under the authority designated in 49 CFR 1.97.
Benjamin D. Kochman,
Deputy Administrator.

[FR Doc. 2025-19327 Filed 10-1-25; 8:45 am]

BILLING CODE 4910-60-P